DEPARTMENT OF THE TREASURY

Internal Revenue Service

26 CFR Parts 1 and 602

[TD 8972]

RIN 1545-AW05

Averaging of Farm Income; Correction

AGENCY: Internal Revenue Service (IRS), Treasury.

ACTION: Correction to final regulations.

SUMMARY: This document contains a correction to final regulations that were published in the Federal Register on Tuesday, January 8, 2002 (67 FR 817) relating to the election to average farm income in computing tax liability.

DATES: This correction is effective January 8, 2002.

FOR FURTHER INFORMATION CONTACT: John M. Moran (202) 622-4940 (not a toll-free number).

SUPPLEMENTARY INFORMATION:

Background

The final regulations that are the subject of this correction are under section 1301 of the Internal Revenue Code.

Need for Correction

As published, the final regulations contain an error that may prove to be misleading and is in need of clarification.

Correction of Publication

Accordingly, the publication of the final regulations (TD 8972), that were the subject of FR Doc. 02-183, is corrected as follows:

§ 1-1301-1 [Corrected]

On page 821, column 1, § 1.1301-1, paragraph (d)(3)(ii), Example (ii), line 9, the language “years 1990, 2000, and 2001. T's 2002 tax” is corrected to read “years 1999, 2000, and 2001. T's 2002 tax.”

LaNita Van Dyke,
Acting Chief, Regulations Unit, Office of Special Counsel, (Modernization and Strategic Planning).

[FR Doc. 02-2744 Filed 2-4-02; 8:45 am]

BILLING CODE 4830-01-P